DEPARTMENT OF ENERGY

Federal Energy Regulatory Commission

[Docket No. PL01-4-000]

California Natural Gas Transportation Infrastructure

May 3, 2001.

AGENCY: Federal Energy Regulatory Commission, DOE.

ACTION: Notice of Staff Technical Conference.

SUMMARY: Staff of the Federal Regulatory Commission will convene a technical conference to address current and projected interstate natural gas pipeline capacity to California, as well as the adequacy of the natural gas infrastructure within California. This notice establishes the date for the conference and the procedures by which interested parties can seek to participate in it.

DATES: The conference will be held May 24, 2001. Those interested in making presentations or participating in discussions should indicate their interest by May 14, 2001 by a letter addressed to the Secretary, Federal Energy Regulatory Commission.

ADDRESSES: Federal Energy Regulatory Commission, 888 First Street, NE., Washington, DC 20426.

FOR FURTHER INFORMATION CONTACT: John Katz, Office of the General Counsel, Federal Energy Regulatory Commission, 888 First Street, NE., Washington, DC 20426.

SUPPLEMENTARY INFORMATION:

Notice of Staff Technical Conference

Take notice that the staff of the Federal Energy Regulatory Commission will hold a public conference on Thursday, May 24, 2001, to address issues regarding the natural gas transportation infrastructure with respect to California. The conference will begin at 10:00 a.m., at the Commission's offices, 888 First Street, NE, Washington, D.C. 20426. All interested persons are invited to attend.

As Commission staff has dealt with various aspects of the current energy situation in California, questions have arisen regarding current and projected interstate natural gas pipeline capacity to California, as well as the adequacy of the natural gas infrastructure within California. Commission staff is interested in the views of natural gas transporters, producers, consumers, regulators, and other interested parties with respect to issues including:

(1) Current and projected interstate pipeline capacity to California;

(2) Current and projected capacity of California intrastate pipelines and other natural gas infrastructure;

(3) Physical and operational interconnection between the interstate and intrastate transportation systems;

(4) Current and projected California demand for natural gas; and

(5) How intrastate capacity in California is allocated.

The conference will not include the discussion of any ongoing proceedings before the Commission.

The conference will be organized in two stages. The first stage will consist of presentations of factual information on the topics listed above. The second stage will consist of discussion on the topics.

Persons interested in making presentations or participating in any discussion should indicate their interest no later than May 14, 2001 by a letter addressed to the Secretary, Federal Energy Regulatory Commission, 888 First Street, NE., Washington, DC, 20426, and should refer to Docket No. PL01-4-000. Each request to participate must include a contact person, telephone number, and E-mail address.

Each request must also indicate whether the person is interested in making a presentation or participating in discussion. For those interested in making presentations, the request should indicate what topics the presentation will cover. Because of the potential need to limit the number of presentations, those with common interests are encouraged to choose a single spokesperson.

After receipt of the requests, staff may issue a subsequent notice setting forth the conference format, or may inform participants of the format at the beginning of the conference. Depending on the number of presentations, it may be necessary for staff to contact presenters prior to the conference to coordinate the presentations.

The conference will be transcribed, so those not attending can review the proceedings. Additional comments on the issues raised by the conference can be filed within 30 days of the conference.

The Capitol Connection offers all Open and special Commission meetings live over the Internet, as well as via telephone and satellite. For a fee, you can receive these meetings in your office, at home, or anywhere in the world. To find out more about The Capitol Connection's live Internet, phone bridge, or satellite coverage, contact David Reininger or Julia Morelli at (703) 993-3100, or visit the website (www.capitolconnection.gmu.edu). The Capitol Connection also offers FERC Open Meetings through its Washington, DC area television service.

Additionally, live and archived audio of FERC public meetings are available for a fee via National Narrowcast Network's Hearings.com(sm) and Hearing-On-Line(r) services. Live audio is available by telephone and on the WEB at www.Hearings.com. The Web audio will be archived and available for listening on demand after the event is completed. Billing is based on listening time. Call (202) 966-2211 for further details.

Those interested in obtaining transcripts of the conference need to contact Ace Federal Reporters, at (202) 347-3700. Anyone interested in purchasing videotapes of the meeting should call VISCOM at (703) 715-7999.

Questions about the conference should be directed to: John Katz, Office of the General Counsel, Federal Energy Regulatory Commission, 888 First Street, NE., Washington, DC 20426, (202) 208-1077, john.katz@ferc.fed.us.

David P. Boergers,
Secretary.

[FR Doc. 01-11576 Filed 5-7-01; 8:45 am]

BILLING CODE 6717-01-M